DEPARTMENT OF TRANSPORTATION

Federal Highway Administration

Environmental Impact Statement: Jefferson and Clearfield Counties, PA

AGENCY: Federal Highway Administration (FHWA), DOT.

ACTION: Cancellation of the notice of intent.

SUMMARY: This notice rescinds the previous Notice of Intent (issued January 17, 2002) to prepare an Environmental Impact Statement for a proposed highway project within the study area of U.S. 219 (eastern terminus), S.R. 0830 (western terminus), Interstate 80 (southern terminus) and the DuBois-Jefferson Airport (northern terminus).

FOR FURTHER INFORMATION CONTACT: David W. Cough, P.E., Director of Operations, Federal Highway Administration, Pennsylvania Division Office, 228 Walnut Street, 5th Floor, Harrisburg, PA 17101-1720, Telephone (717) 221-3411 or Mark S. Rozich, P.E., Project Manager, Pennsylvania Department of Transportation, District 10-0, Route 286 South, PO Box 429, Indiana, Pennsylvania 15701, (724) 357-2852.

SUPPLEMENTARY INFORMATION: Social, cultural and natural analyses have indicated that there will be no significant impacts associated with this project. An Environmental Assessment will be prepared.

(Catalog of Federal Domestic Assistance Program Number 20.205, Highway Planning and Construction. The regulations implementing Executive Order 12372 regarding intergovernmental consultation on Federal programs and activities apply to this program.)
Dated: July 2, 2003.
David C. Lawton,
FHWA Assistant Division Administrator, Harrisburg, PA.

[FR Doc. 03-17354 Filed 7-8-03; 8:45 am]

BILLING CODE 4910-22-M